DEPARTMENT OF STATE

[Public Notice 4782]

Shipping Coordinating Committee

The Shipping Coordinating Committee (SHC) will conduct an open meeting at 1 p.m. on Monday, September 20, 2004, in Room 6244 of the Department of Transportation Headquarters, 400 Seventh Street, SW., Washington, DC 20590-0001. The primary purpose of the meeting is to prepare for the Ninth Session of the International Maritime Organization (IMO) Sub-Committee on Dangerous Goods, Solid Cargoes and Containers to be held at the IMO Headquarters in London, England from September 27 to October 1, 2004.

The primary matters to be considered include:

—Amendments to the International Maritime Dangerous Goods (IMDG) Code and Supplements including harmonization of the IMDG Code with the United Nations Recommendations on the Transport of Dangerous Goods, and review of Annex III of the Marine Pollution Convention (MARPOL 73/78), as amended.

—Review of the Code of Safe Practice for Solid Bulk Cargoes (BC Code), including evaluation of properties of solid bulk cargoes.

—Cargo securing manual.

—Casualty and incident reports and analysis.

—Development of a manual on loading and unloading of solid bulk cargoes for terminal representatives.

—Guidance on serious structural deficiencies in containers.

—Measures to enhance maritime security.

—Document of compliance required by SOLAS Regulation II-2/19.

Members of the public may attend the meeting up to the seating capacity of the room. Interested persons may seek information by writing: Mr. E. P. Pfersich, U.S. Coast Guard (G-MSO-3), Room 1210, 2100 Second Street, SW., Washington, DC 20593-0001 or by calling (202) 267-1217.

Dated: August 24, 2004.
Clay Diamond,
Executive Secretary, Shipping Coordinating Committee, Department of State.

[FR Doc. 04-20147 Filed 9-2-04; 8:45 am]

BILLING CODE 4710-07-P